SMALL BUSINESS ADMINISTRATION

[Disaster Declaration # 10644 and # 10645]

Virginia Disaster # VA-00006

AGENCY: U.S. Small Business Administration.

ACTION: Notice.

SUMMARY: This is a notice of an Administrative declaration of a disaster for the Commonwealth of Virginia dated 10/16/2006.

Incident: Tropical Storm Ernesto.

Incident Period: 08/30/2006 through 09/01/2006.

Effective Date: 10/16/2006.

Physical Loan Application Deadline Date: 12/15/2006.

Economic Injury (EIDL) Loan Application Deadline Date: 07/16/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Gloucester, Hampton (City), Newport News (City), Northumberland, Richmond (City)

Contiguous Counties:

Virginia: Chesterfield, Henrico, James City, King and Queen, Lancaster, Mathews, Middlesex, Poquoson (City), Richmond, Westmoreland, York

The Interest Rates are:

| Percent
Homeowners With Credit Available Elsewhere | 6.250
Homeowners Without Credit Available Elsewhere | 3.125
Businesses With Credit Available Elsewhere | 7.934
Businesses & Small Agricultural Cooperatives Without Credit Available Elsewhere | 4.000
Other (Including Non-Profit Organizations) With Credit Available Elsewhere | 5.000
Businesses And Non-Profit Organizations Without Credit Available Elsewhere | 4.000

The number assigned to this disaster for physical damage is 10644 B and for economic injury is 10645 0.

The State which received an EIDL Declaration # is Virginia.

(Catalog of Federal Domestic Assistance Numbers 59002 and 59008)

October 16, 2006.
Steven C. Preston,
Administrator.

[FR Doc. E6-17767 Filed 10-23-06; 8:45 am]

BILLING CODE 8025-01-P